NUCLEAR REGULATORY COMMISSION

[NRC-2013-0125]

Effectiveness of the Reactor Oversight Process Baseline Inspection Program

AGENCY: Nuclear Regulatory Commission.

ACTION: Public meeting and request for comment.

SUMMARY: The U.S. Nuclear Regulatory Commission (NRC) plans to hold a public meeting to discuss the effectiveness of the reactor oversight process (ROP) baseline inspection program with members of the public, licensees, and interest groups. The NRC is also seeking public comment about the effectiveness of the ROP baseline inspection program. Responses received at the meeting and public comments submitted to the NRC will provide important information for ongoing program improvement.

DATES: The public meeting will be held on July 17, 2013. See Section III, Public Meeting, of this document for more information on the meeting. Comments on the issues and questions presented in the SUPPLEMENTARY INFORMATION section of this document should be submitted by July 26, 2013.

ADDRESSES: You may submit comments by any of the following methods (unless this document describes a different method for submitting comments on a specific subject):

• Federal Rulemaking Web site: Go to http://www.regulations.gov and search for Docket ID NRC-2013-0125. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch, Office of Administration, Mail Stop: TWB-05-B01M, U.S. Nuclear Regulatory Commission, Washington, DC 20555-0001.

For additional direction on accessing information and submitting comments, see “Accessing Information and Submitting Comments” in the SUPPLEMENTARY INFORMATION section of this document.

FOR FURTHER INFORMATION CONTACT: Marsha Gamberoni, Office of Nuclear Reactor Regulations, U.S. Nuclear Regulatory Commission, Washington, DC 20555-0001; telephone: 301-415-0890; Marsha.Gamberoni@nrc.gov.

SUPPLEMENTARY INFORMATION:

I. Accessing Information and Submitting Comments

A. Accessing Information

Please refer to Docket ID NRC-2013-0125 when contacting the NRC about the availability of information regarding this document. You may access information related to this document, which the NRC possesses and is publicly available, by any of the following methods:

• Federal Rulemaking Web site: Go to http://www.regulations.gov and search for Docket ID NRC-2013-0125.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

• Information regarding the ROP and licensee performance can be accessed at http://www.nrc.gov/NRR/OVERSIGHT/ASSESS/.html.

B. Submitting Comments

Please include Docket ID NRC-2013-0125 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Program Overview

The mission of the NRC is to ensure adequate protection of public health and safety, promote the common defense and security, and protect the environment. The NRC regulates commercial nuclear power plants through a combination of regulatory requirements; licensing; safety oversight, including inspection, assessment of performance and enforcement; operational experience evaluation; and regulatory support activities. The NRC periodically reviews each of these processes and is in the process of reviewing the baseline inspection program and the associated inspection procedures. Inspection procedures are statements of requirements or guidance for inspection activities that focus on safety. Baseline inspections are performed annually at all plants. Inspection Manual Chapter 2515 Appendix A provides background on the baseline inspection program including the objectives and philosophy and contains a list of all inspection procedures.

The agency's goal for the current review is to enhance the baseline inspection program to incorporate the needed inspection areas for the current environment, eliminate redundant or no longer necessary inspection areas, maximize efficient and effective use of agency resources, and incorporate flexibility where appropriate. This process should provide a validation of the basic philosophy and key principles of the baseline inspection program with allowance to make changes where it may be necessary.

III. Public Meeting

The public meeting will be held in Rockville, Maryland, at 11555 Rockville Pike, in the NRC Commissioners' Hearing Room on July 17, 2013. The agenda for the public meeting will be noticed no fewer than 10 days prior to the meeting on the NRC's Public Meeting Schedule Web site at http://www.nrc.gov/public-involve/public-meetings/index.cfm. Any meeting updates or changes will be made available on this Web site.

At the meeting, the NRC will discuss inspection areas such as engineering, maintenance, operations, and problem identification and resolution. The NRC has prepared the following questions in advance of the meeting to aid in a focused discussion on specific topics. In addition, the NRC specifically requests public comment addressing the following topics:

(1) What issues/programs/components, if any, should be covered by the ROP baseline inspection program, but are not? What areas, if any, are covered by the ROP baseline inspection program that should not be?

(2) How can the baseline inspection program be more efficient and/or effective?

(3) What redundancies exist in the baseline inspection program? For example, do the current baseline inspection procedures have the correct breadth to ensure we are not inspecting the same things?

(4) What ways are there to increase the NRC's focus on the most significant performance issues at a plant? Are there areas of licensee plant operations and performance which warrant increased or new NRC focus? Are there areas where the NRC's focus should be decreased?

(5) How can we improve the existing baseline inspection procedures to result in findings that have a clear tie to nuclear safety, are indicative of current performance, and provide the most insight?

(6) How can we better integrate operating experience into the baseline inspection program?

(7) What changes, if any, can be made to the existing baseline inspection program to ensure we are sufficiently evaluating age related degradation or failures of passive or active systems, structures, or components?

(8) What changes, if any, should be made to the baseline inspection program to ensure it is adequate for the current environment (e.g. external event uncertainties, plants entering extended operation, effects of power uprates, new corporate/financial structures, etc)?

(9) What changes, if any, should be made to the frequency of team inspections?

Dated at Rockville, Maryland, this 4th day of June, 2013.
For the Nuclear Regulatory Commission.
Timothy J. Kobetz,
Acting Director, Division of Inspection and Regional Support, Office of Nuclear Reactor Regulations.

[FR Doc. 2013-13794 Filed 6-10-13; 8:45 am]

BILLING CODE 7590-01-P